INTERNATIONAL TRADE COMMISSION

[Investigation No. 731-TA-472 (Third Review)]

Silicon Metal From China

Determination

On the basis of the record ¹ developed in the subject five-year review, the United States International Trade Commission (Commission) determines, pursuant to section 751(c) of the Tariff Act of 1930 (19 U.S.C. 1675(c)), that revocation of the antidumping duty order on silicon metal from China would be likely to lead to continuation or recurrence of material injury to an industry in the United States within a reasonably foreseeable time.²

¹ The record is defined in sec. 207.2(f) of the Commission's Rules of Practice and Procedure (19 CFR 207.2(f)).

² Chairman Deanna Tanner Okun did not participate in this review.

Background

The Commission instituted this review on November 1, 2011 (76 FR 67476) and determined on February 6, 2012 that it would conduct an expedited review (77 FR 10774, February 23, 2012).

The Commission transmitted its determination in this review to the Secretary of Commerce on March 30, 2012. The views of the Commission are contained in USITC Publication 4312 (March 2012), entitled Silicon Metal from China: Investigation No. 731-TA-472 (Third Review).

By order of the Commission.
Issued: March 30, 2012.
James R. Holbein,
Secretary to the Commission.

[FR Doc. 2012-8148 Filed 4-4-12; 8:45 am]

BILLING CODE 7020-02-P